DEPARTMENT OF DEFENSE

Office of the Secretary

Notice of Availability of The National Missile Defense Deployment Final Environmental Impact Statement

AGENCY: Ballistic Missile Defense Organization, DoD.

ACTION: Notice of availability.

SUMMARY: The Ballistic Missile Defense Organization (BMDO) announces the availability of the National Missile Defense (NMD) Deployment Final Environmental Impact Statement (FEIS). The FEIS assesses the potential impacts associated with the possible deployment of the NMD system.

COMMENTS: The review period for the FEIS will end on January 29, 2001 and comments must be received by this date. Written comments and inquiries on the FEIS or a request for a copy of the FEIS should be directed to: SMDC-EN-V (Ms. Julia Hudson), U.S. Army Space and Missile Defense Command, PO Box 1500, Huntsville, AL 35807-3801, telephone (256) 955-4822.

SUPPLEMENTARY INFORMATION: The BMDO announced the availability of the National Missile Defense Deployment Draft Environmental Impact Statement (DEIS) on October 1, 1999 (64 FR 190 53364) providing notice that the DEIS was available for comment. The public review period was from October 1, 1999 through January 19, 2000. Public hearings were held October 26 through November 9, 1999. Comments from the DEIS review and public hearings have been considered and included along with responses in the FEIS. Additionally, availability of an Upgraded Early Warning Radar Supplement to the NMD Deployment DEIS was announced on March 3, 2000 (65 FR 43 11560) with the public comment period from March 3, 2000 to May 12, 2000. This analysis and the comments and responses to the supplement to the DEIS have been included in the NMD Deployment FEIS.

The NMD System would be a fixed, land-based, non-nuclear missile defense system with a land and space-based detection system capable of responding to limited strategic ballistic missile threats to the United States. Potential deployment locations for the NMD elements include sites in Alaska and North Dakota. In addition, as the operational requirements are refined other regions may be identified.

The Preferred Alternative is deployment of a NMD system with up to 100 Ground-Based Interceptor (GBI) silos and Battle Management Command and Control (BMC2) facilities at Fort Greely, Alaska; and an X-Band Radar (XBR) at Eareckson Air Station (AS) (Shemya Island), Alaska. Under the Preferred Alternative, the NMD system would make use of the existing Early Warning Radars (EWR), upgraded for NMD and the existing space-based detection system that would be in place at the time of deployment. The existing EWRs are located at Beale Air Force Base (AFB), California, Clear As, Alaska, and Cape Cod AS, Massachusetts. A decision on implementation of the EWR upgrades for NMD, however, is contingent upon the outcome of the U.S. Air Force's EIS that addresses modernization, maintenance, and sustainment of operations of the three radar facilities. Since the In-Flight Interceptor Communications System (IFICS) Data Terminals locations have not been identified, no preferred location has been selected.

Copies of the FEIS have been distributed to Federal, state, and local agencies; public officials; and organizations and individuals that previously requested copies of the DEIS or FEIS. Copies of the FEIS will be available for review at public libraries in communities adjacent to the potential NMD deployment sites. These communities include: Cavalier, Fargo, Grand Forks, and Langdon in North Dakota; Anchorage, Anderson, Delta Junction, Fairbanks, Healy, Kodiak, and Nenana in Alaska; Live Oak, Marysville, and Yuba City in California; Bourne, Falmount, Mashpee, Sandwich, and West Barnstable in Massachusetts. The library locations and the FEIS are also available on the BMDO internet site: www.acq.osd.mil/bmdo/bmdolink/html/nmd.html.

Dated: December 1, 2000.
L.M. Bynum,
Alternate OSD Federal Register Liason Officer, Department of Defense.

[FR Doc. 00-33281 Filed 12-28-00; 8:45 am]

BILLING CODE 5001-10-M